DEPARTMENT OF TRANSPORTATION

Federal Railroad Administration

[Docket No. FRA-2022-0098]

Brightline Trains Florida, LLC's Positive Train Control Safety Plan and Request for Positive Train Control System Certification

AGENCY: Federal Railroad Administration (FRA), Department of Transportation (DOT).

ACTION: Notice of availability and request for comments.

SUMMARY: This document provides the public with notice that, on February 28, 2023, Brightline Trains Florida, LLC (BLF) submitted its Positive Train Control Safety Plan (PTCSP), Version 1.0, dated January 30, 2023, to FRA's Secure Information Repository. BLF asks FRA to approve its PTCSP and certify BLF's Interoperable Electronic Train Management System (I-ETMS) as a mixed PTC system.

DATES: FRA will consider comments received by May 8, 2023 before taking final action on the PTCSP. FRA may consider comments received after that date to the extent practicable and without delaying implementation of a PTC system.

ADDRESSES:

Comments: Comments may be submitted by going to https://www.regulations.gov and following the online instructions for submitting comments.

Instructions: All submissions must include the agency name and the applicable docket number. The relevant PTC docket number for this railroad is Docket No. FRA-2022-0098. All comments received will be posted without change to https://www.regulations.gov; this includes any personal information.

FOR FURTHER INFORMATION CONTACT: Gabe Neal, Staff Director, Signal, Train Control, and Crossings Division, telephone: 816-516-7168, email: Gabe.Neal@dot.gov.

SUPPLEMENTARY INFORMATION: In its PTCSP, BLF asserts that the I-ETMS PTC system is a mixed PTC system as defined in title 49 Code of Federal Regulations (CFR) 236.1015(e)(4). The PTCSP describes BLF's I-ETMS and the associated I-ETMS safety processes, safety analyses, and test, validation, and verification processes used during the development of I-ETMS. The PTCSP also contains I-ETMS's operational and support requirements and procedures.

BLF's PTCSP is available for review online at https://www.regulations.gov/docket/FRA-2022-0098. Interested parties are invited to comment on the PTCSP by submitting written comments or data. During its review of the PTCSP, FRA will consider any comments or data submitted. See 49 CFR 236.1011(e). However, FRA may elect not to respond to any particular comment, and under 49 CFR 236.1009(d)(3), FRA maintains the authority to approve or disapprove the PTCSP at its sole discretion.

Privacy Act Notice

In accordance with 49 CFR 211.3, FRA solicits comments from the public to better inform its decisions. DOT posts these comments, without edit, including any personal information the commenter provides, to https://www.regulations.gov, as described in the system of records notice (DOT/ALL-14 FDMS), which can be reviewed at https://www.transportation.gov/privacy. See https://www.regulations.gov/privacy-notice for the privacy notice of regulations.gov. To facilitate comment tracking, we encourage commenters to provide their name, or the name of their organization; however, submission of names is completely optional. If you wish to provide comments containing proprietary or confidential information, please contact FRA for alternate submission instructions.

Issued in Washington, DC.
Carolyn R. Hayward-Williams,
Director, Office of Railroad Systems and Technology.

[FR Doc. 2023-04832 Filed 3-8-23; 8:45 am]

BILLING CODE 4910-06-P